DEPARTMENT OF THE INTERIOR

Fish and Wildlife Service

Notice of Availability of a Final Environmental Impact Statement for the Orange County Southern Subregion Natural Community Conservation Plan/Habitat Conservation Plan, Orange County, CA

AGENCY: Fish and Wildlife Service, Interior.

ACTION: Notice of availability.

SUMMARY: This notice announces the availability of the final Environmental Impact Statement (EIS) prepared pursuant to the National Environmental Policy Act (NEPA) for the Orange County Southern Subregion Natural Community Conservation Plan/Habitat Conservation Plan (Plan), for public review and comment. The Fish and Wildlife Service (Service) is considering the proposed action of issuing three 75-year incidental take permits, pursuant to section 10(a)(1)(B) of the Federal Endangered Species Act of 1973, as amended (ESA), for 32 species in response to receipt of applications from the County of Orange (County), Rancho Mission Viejo, LLC (RMV) and Santa Margarita Water District (SMWD) (Applicants). The proposed permits would authorize take of individual members of animal species listed under the ESA. The permits are needed because take of species could occur during proposed urban development activities and associated infrastructure on Rancho Mission Viejo, expansion of the Prima Deshecha Landfill, the extension of Avenida La Pata, maintenance and operation of Santa Margarita Water District facilities, and reserve management activities within an approximately 132,000-acre Plan Area in southern Orange County, California.

The Orange County Southern Subregion Habitat Conservation Plan also serves as a proposed Natural Community Conservation Plan under the State of California's Natural Community Conservation Planning Act (NCCPA). The EIS analyzes the impacts of the Plan/NCCP and a Master Streambed Alteration Agreement which involves action by the County of Orange and the California Department of Fish and Game. For that reason, the EIS also serves as an Environmental Impact Report (EIR) to satisfy requirements of the California Environmental Quality Act (CEQA) in addition to those of the National Environmental Policy Act (NEPA). Comments regarding the Final EIS/EIR may be submitted to the Service pursuant to NEPA during a 30-day waiting period [See DATES].

DATES: Written comments should be received on or before December 13, 2006.

ADDRESSES: Comments should be sent to Mr. Jim Bartel, Field Supervisor, U.S. Fish and Wildlife Service, Carlsbad Fish and Wildlife Office, 6010 Hidden Valley Road, Carlsbad, California 92011. You may also submit comments by facsimile to 760-918-0638.

FOR FURTHER INFORMATION CONTACT: Ms. Karen Goebel, Assistant Field Supervisor, 6010 Hidden Valley Road, Carlsbad, California 92011, 760-431-9440.

SUPPLEMENTARY INFORMATION:

Availability of Documents

Copies of the Plan and Appendices A-X, the Map Book, the Implementation Agreement, and the Final EIS/EIR are available for public review, by appointment, during regular business hours, at the Carlsbad Fish and Wildlife Office (see FOR FURTHER INFORMATION CONTACT). Copies are also available for viewing in select local southern Orange County public libraries (listed below), the Orange County Resources and Development Management Department, and at the following Web site: http://www.ocplanning.net.

1. Dana Point Library—Reference Desk, 33841 Niguel Road, Laguna Niguel, California 92629;

2. Laguna Hills Library—Reference Desk, 25555 Alicia Parkway, Laguna Hills, California 92653;

3. Laguna Niguel Library—Reference Desk, 30341 Crown Valley Parkway, Laguna Niguel, California 92677;

4. Mission Viejo Library—Reference Desk, 100 Civic Center, Mission Viejo, California 92691;

5. Rancho Santa Margarita Library—Reference Desk, 30902 La Promesa, Rancho Santa Margarita, California 92688;

6. San Clemente Library—Reference Desk, 242 Avenida Del Mar, San Clemente, California 92672;

7. San Juan Capistrano Library—Reference Desk, 31495 El Camino Real, San Juan Capistrano, California 92675; and

8. Orange County Resources & Development Management Department—Tim Neely, 300 North Flower Street, Santa Ana, California 92702.

Background Information

Section 9 of the Federal ESA of 1973, as amended, and Federal regulations prohibit the take of fish and wildlife species listed as endangered or threatened (16 U.S.C. 1538). The term “take” means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering (50 CFR 17.3). Under limited circumstances, the Service may issue permits to authorize incidental take of listed fish or wildlife; i.e., take that is incidental to, and not the purpose of, otherwise lawful activity. Regulations governing incidental take permits for threatened and endangered species are found in 50 CFR 17.32(b) and 17.22(b), respectively.

Although take of listed plant species is not prohibited under the Federal ESA and therefore cannot be authorized under an incidental take permit, plant species are proposed to be included on the permits in recognition of the conservation benefits provided to them under the Plan. All species included on an incidental take permit would receive assurances under the Service's “No Surprises” regulation (50 CFR 17.22(b)(5) and 17.32(b)(5)).

The Service has received applications for incidental take permits supported, in part, by the Plan. The applications were prepared and submitted by the three Applicants to satisfy the application requirements for a section 10(a)(1)(B) permit under the Federal ESA, of 1973, as amended, a section 2835 permit under the California Natural Community Conservation Planning Act of 1991 (NCCPA), and a streambed alteration agreement under section 1600 et seq. of the California Fish and Game Code. Thus, the Plan constitutes a Habitat Conservation Plan pursuant to the Federal ESA, and a Natural Community Conservation Plan pursuant to the NCCPA, and also addresses the proposed master streambed alteration agreement pursuant to the California Department of Fish and Game Code.

The Applicants seek 75-year incidental take permits authorizing take incidental to covered activities within a proposed 132,000-acre Plan Area, located entirely in southern Orange County, California. The Plan is one of two large, multiple-jurisdiction habitat planning efforts in Orange County, each of which constitutes a “subregional” plan under the NCCPA.

The applicants have requested permits for 32 species, seven of which are currently listed as threatened or endangered under the Federal ESA. Of these 32 species, the Applicants request incidental take permits for 25 animal species and assurances for seven plant species, all of which are collectively referred to as “Covered Species” by the Plan. Of the seven plant species, one is listed as threatened [Thread-leaved Brodiaea (Brodiaea filifolia)] and six are unlisted [California Scrub Oak (Quercus berberidifolia), Chaparral Beargrass (Nolina cismontana), Coast Live Oak (Quercus agrifolia), Coulter's Saltbush (Atriplex coulteri), Many-stemmed Dudleya (Dudleya multicaulis), and Southern Tarplant (Centromadia parryi var. australis)]). In addition, two invertebrate species, both listed as endangered [Riverside Fairy Shrimp (Streptocephalus woottoni) and San Diego Fairy Shrimp (Branchinecta sandiegonensis)] are covered; two unlisted fish species, [Arroyo Chub (Gila orcutti) and Partially-armored Threespine Stickleback (Gasterosteus aculeatus microcephalus)]); two amphibian species, one listed as endangered [Arroyo Toad (Bufo californicus)] and one unlisted [Western Spadefoot Toad (Spea hammondii)]); seven unlisted reptile species [California Glossy Snake (Arizona elegans occidentalis), Coast Patch-nosed Snake (Salvadora hexalepis virgultea), Northern Red-diamond Rattlesnake (Crotalus ruber ruber), Orange-throated Whiptail (Aspidoscelis hyperythra), Red Coachwhip (Masticophis flagellum piceus), San Diego “Coast” Horned Lizard (Phrynosoma coronatum), and Southwestern Pond Turtle (Emys [=Clemmys] marmorata pallida)]); and 12 bird species, two listed as endangered [Least Bell's Vireo (Vireo bellii pusillus) and Southwestern Willow Flycatcher (Empidonax traillii extimus)], one listed as threatened [Coastal California Gnatcatcher (Polioptila californica californica)], and nine unlisted [Burrowing Owl (Athene cunicularia), Coastal Cactus Wren (Campylorhynchus brunneicapillus couesi), Cooper's Hawk (Accipiter cooperii), Grasshopper Sparrow (Ammodramus savannarum), Long-eared Owl (Asio otus), Tricolored Blackbird (Agelaius tricolor), White-tailed Kite (Elanus leucurus), Yellow-breasted Chat (Icteria virens), and Yellow Warbler (Dendroica petechia)] are also included as Covered Species. If the proposed Plan is approved and the permits issued, the take authorizations for listed covered animal species would be effective upon permit issuance. For currently unlisted covered animal species, the take authorizations would become effective concurrent with listing, should the species be listed under the ESA during the permit term. The take permits would authorize take incidental to the Covered Activities identified in the Plan.

Proposed Covered Activities include residential and commercial development and associated infrastructure on RMV, maintenance of existing RMV ranch facilities, and grazing on portions of the Habitat Reserve; SMWD projects both within and outside of RMV within the Plan area; and the County's expansion of the Prima Deshecha Landfill, and extention and improvements to Avenida La Pata. The Plan provides for the inclusion of additional individual land owners within Coto de Caza who choose to fulfill specific mitigation measures. Individual projects would typically require separate environmental review under CEQA, and in some cases, NEPA.

As described in the Draft EIS/EIR, the Plan would provide for the creation of a Habitat Reserve encompassing approximately 20,868 acres of habitat permanently protected and managed to benefit the Covered Species, in addition to approximately 11,950 acres of existing County Wilderness Parkland, the 4,000-acre Audubon Starr Ranch, and approximately 7,000 acres of existing conservation elsewhere in the Southern Subregion of Orange County outside of the Cleveland National Forest that also provide habitat for the Covered Species. Orange County will manage an additional 531 acres for the benefit of Covered Species on the Prima Deshecha Landfill. As a major part of the Habitat Reserve, approximately 16,536 acres (73 percent) of RMV land would be preserved through a Phased Dedication Program linked to phased development on RMV lands. When completed, the Habitat Reserve will include large habitat blocks for Covered Species that provide for essential ecological processes and biological corridors and linkages to provide for the conservation of the proposed Covered Species.

In order to comply with the requirements of the Federal ESA, California ESA, and the California NCCPA, the Plan addresses a number of required elements, including: Species and habitat goals and objectives; evaluation of the effects of Covered Activities on Covered Species, including indirect and cumulative effects; a conservation strategy; a monitoring and adaptive management program; descriptions of potential changed circumstances and remedial measures; identification of funding sources; and an assessment of alternatives to take of listed species. A monitoring and reporting plan would gauge the Plan's success based on achievement of biological goals and objectives and would ensure that conservation keeps pace with development. The Plan includes a management program, including adaptive management, which allows for changes in the conservation program if the biological species objectives are not met or new information becomes available to improve the efficacy of the Plan's conservation strategy.

On July 14, 2006, the Service published a notice in the Federal Register (71 FR 40145) announcing receipt of an application for incidental take permits from the Applicants. The draft EIS/EIR analyzed the potential environmental impacts that may result from the Federal action of authorizing incidental take anticipated to occur with implementation of the Plan and identified various alternatives. We received a total of 21 comment letters on the draft EIS/EIR. In several cases, interested parties submitted separate but identical letters on both the EIS and EIR. A response to each comment received in all of these letters has been included in the final EIS/EIR.

Alternatives

After an initial screening of proposed alternatives, the draft EIS/EIR considered four alternatives in detail in addition to the preferred project described above (Alternative B-12) including: an expanded conservation alternative (B-8); an alternative formulated by Orange County during the County zoning process (B-10M); a “no-take/no-streambed alteration” alternative (A-5); and a no-project alternative (A-4).

Under Alternative B-8, approximately 19,130 acres (84 percent) of RMV land would be designated as permanent open space. Potential development would be located on about 3,680 acres (16 percent) of RMV lands. Acquisition and management of open space would be provided for through dedications and public and non-profit organization funding of acquisitions and management. A voluntary sale by RMV for purpose of open space acquisition likely would be required for substantial areas. County housing needs would be met to a far lesser extent than any of the other alternatives.

Under Alternative B-10M, approximately 15,132 acres (66 percent) of RMV land would be designated as permanent open space. Potential development would be located on about 6,279 acres (27 percent, including orchards and the Planning Area 4 reservoir) of RMV land. This alternative would not require acquisition of reserve land on RMV. Compared with Alternative B-12, this alternative would result in more development in the San Mateo watershed.

The “no project” and “no take” programmatic alternatives are expected to conserve less habitat than Alternative B-12 and in an unknown configuration through a project by project approach. Management for remaining open space in these alternatives is unspecified.

National Environmental Policy Act

Proposed permit issuance triggers the need for compliance with NEPA. As stated above, because other Orange County and State-related actions are covered in the Plan, there is also a need for compliance with CEQA. Accordingly, a joint NEPA/CEQA document has been prepared. The Service is the lead agency responsible for compliance under NEPA, and Orange County is the Lead Agency with the responsibility for compliance with CEQA. As NEPA lead agency, the Service is providing notice of the availability of the Final EIS/EIR and is making available for public review the responses to comments on the Draft EIS/EIR.

Public Review

The Service invites the public to review the Final Plan, Final EIS/EIR, and Final Implementing Agreement during a 30-day waiting period [See DATES]. Any comments received, including names and addresses, will become part of the administrative record and may be made available to the public. Our practice is to make comments, including names, home addresses, home phone numbers, and email addresses of respondents, available for public review. Individual respondents may request that we withhold their names and/or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

The Service will evaluate the application, associated documents, and comments submitted to them to prepare a Record of Decision. Permit decisions will be made no sooner than 30 days after the publication of the Final EIS/EIR and completion of the Record of Decision.

This notice is provided pursuant to section 10(a) of the Federal ESA and regulations for implementing NEPA, as amended (40 CFR 1506.6). We provide this notice in order to allow the public, agencies, and/or other organizations to review these documents.

Dated: October 26, 2006.
Ken McDermond,
Deputy Manager, California/Nevada Operations Office, Sacramento, California.

[FR Doc. E6-18971 Filed 11-9-06; 8:45 am]

BILLING CODE 4310-55-P